SMALL BUSINESS ADMINISTRATION

[Disaster Declaration #16181 and #16182; Florida Disaster Number FL-00147]

Administrative Declaration of a Disaster for the State of Florida

AGENCY: U.S. Small Business Administration.

ACTION: Notice.

SUMMARY: This is a notice of an Administrative declaration of a disaster for the State of Florida dated 11/13/2019.

Incident: Tornadoes as a result of Tropical Storm Nestor.

Incident Period: 10/18/2019.

DATES: Issued on 11/13/2019.

Physical Loan Application Deadline Date: 01/13/2020.

Economic Injury (EIDL) Loan Application Deadline Date: 08/13/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Polk.

Contiguous Counties:

Florida: Hardee, Highlands, Hillsborough, Lake, Manatee, Okeechobee, Orange, Osceola, Pasco, Sumter.

The Interest Rates are:

| Percent
For Physical Damage:
Homeowners With Credit Available Elsewhere | 3.000
Homeowners Without Credit Available Elsewhere | 1.500
Businesses With Credit Available Elsewhere | 7.750
Businesses Without Credit Available Elsewhere | 3.875
Non-Profit Organizations With Credit Available Elsewhere | 2.750
Non-Profit Organizations Without Credit Available Elsewhere | 2.750
For Economic Injury:
Businesses & Small Agricultural Cooperatives Without Credit Available Elsewhere | 3.875
Non-Profit Organizations Without Credit Available Elsewhere | 2.750

The number assigned to this disaster for physical damage is 16181 8 and for economic injury is 16182 0.

The States which received an EIDL Declaration # is Florida.

(Catalog of Federal Domestic Assistance Number 59008)

Christopher Pilkerton,
Acting Administrator.

[FR Doc. 2019-25036 Filed 11-18-19; 8:45 am]

BILLING CODE 8026-03-P